DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of eight individuals and one entity whose property and interests in property have been blocked pursuant to the Foreign Narcotics Kingpin Designation Act (Kingpin Act), 21 U.S.C. §§ 1901-1908, 8 U.S.C. § 1182.

DATES: The designation by the Director of OFAC of the eight individuals and one entity identified in this notice pursuant to section 805(b) of the Kingpin Act is effective on April 14, 2016.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On April 14, 2016, the Acting Director of OFAC designated the following eight individuals and one entity whose property and interests in property are blocked pursuant to section 805(b) of the Kingpin Act.

Individuals

1. BARRIOS HERNANDEZ, Mercedes (a.k.a. “LA MECHE”), Xochitepec, Morelos, Mexico; DOB 05 May 1971; POB Acapulco de Juarez, Guerrero, Mexico; citizen Mexico; Gender Female; R.F.C. BAHM710505Q91 (Mexico); C.U.R.P. BAHM710505MGRRRR07 (Mexico) (individual) [SDNTK] (Linked To: LAREDO DRUG TRAFFICKING ORGANIZATION). Designated for materially assisting in, or providing financial or technological support for or to, or providing services in support of, the international narcotics trafficking activities of the LAREDO DTO and/or Job LAREDO DON JUAN, and/or is directed by, or acting for or on behalf of, the LAREDO DTO and/or Job LAREDO DON JUAN, and therefore meets the statutory criteria for designation pursuant to section 805(b)(2) and/or (3) of the Kingpin Act, 21 U.S.C. 1904(b)(2) and/or (3).

2. GOMEZ VELAZQUEZ, Daniela (a.k.a. GOMEZ VELASQUEZ, Daniela), Cuernavaca, Morelos, Mexico; DOB 25 Nov 1989; POB Poza Rica de Hidalgo, Veracruz, Mexico; citizen Mexico; Gender Female; R.F.C. GOVD891125EK6 (Mexico); National ID No. 96088982044 (Mexico); alt. National ID No. 96098907692 (Mexico); C.U.R.P. GOVD891125MVZMLN04 (Mexico) (individual) [SDNTK] (Linked To: LAREDO DRUG TRAFFICKING ORGANIZATION). Designated for materially assisting in, or providing financial or technological support for or to, or providing services in support of, the international narcotics trafficking activities of the LAREDO DTO and/or Ismael LAREDO DONJUAN, and/or is directed by, or acting for or on behalf of, the LAREDO DTO and/or Ismael LAREDO DONJUAN, and therefore meets the statutory criteria for designation pursuant to section 805(b)(2) and/or (3) of the Kingpin Act, 21 U.S.C. 1904(b)(2) and/or (3).

3. LAREDO DON JUAN, Job (a.k.a. LAREDO DONJUAN, Job; a.k.a. LAREDO, Antonio; a.k.a. RODRIGUEZ, Antonio; a.k.a. “GORDO”), Cuernavaca, Morelos, Mexico; DOB 17 Mar 1968; POB San Miguel Totolapan, Guerrero, Mexico; citizen Mexico; Gender Male; R.F.C. LADJ6803175F6 (Mexico); alt. R.F.C. LADJ6803178D1 (Mexico); C.U.R.P. LADJ680317HGRRNB04 (Mexico) (individual) [SDNTK] (Linked To: LAREDO DRUG TRAFFICKING ORGANIZATION). Designated for materially assisting in, or providing financial or technological support for or to, or providing services in support of, the international narcotics trafficking activities of the LAREDO DTO, and/or is directed by, or acting for or on behalf of, the LAREDO DTO, and therefore meets the statutory criteria for designation pursuant to section 805(b)(2) and/or (3) of the Kingpin Act, 21 U.S.C. 1904(b)(2) and/or (3).

4. LAREDO ESTRADA, Andres, Mexico; DOB 01 Dec 1973; POB Tlapehuala, Guerrero, Mexico; citizen Mexico; Gender Male; R.F.C. LAEA731201TB0 (Mexico); National ID No. 15097300311 (Mexico); C.U.R.P. LAEA731201HGRRSN07 (Mexico) (individual) [SDNTK] (Linked To: LAREDO DRUG TRAFFICKING ORGANIZATION). Designated for materially assisting in, or providing financial or technological support for or to, or providing services in support of, the international narcotics trafficking activities of the LAREDO DTO and/or Job LAREDO DON JUAN, and/or is directed by, or acting for or on behalf of, the LAREDO DTO and/or Job LAREDO DON JUAN, and therefore meets the statutory criteria for designation pursuant to section 805(b)(2) and/or (3) of the Kingpin Act, 21 U.S.C. 1904(b)(2) and/or (3).

5. LAREDO DONJUAN, Ruben, Sn Francisco 471, Santa Ana Zicatecoyan, Tlatlaya, Estado de Mexico C.P. 51571, Mexico; DOB 02 Sep 1974; POB General Heliodoro Castillo, Guerrero, Mexico; citizen Mexico; Gender Male; R.F.C. LADR7409021W3 (Mexico); C.U.R.P. LADR740902HGRRNB14 (Mexico) (individual) [SDNTK] (Linked To: LAREDO DRUG TRAFFICKING ORGANIZATION). Designated for materially assisting in, or providing financial or technological support for or to, or providing services in support of, the international narcotics trafficking activities of the LAREDO DTO, and/or is directed by, or acting for or on behalf of, the LAREDO DTO, and therefore meets the statutory criteria for designation pursuant to section 805(b)(2) and/or (3) of the Kingpin Act, 21 U.S.C. 1904(b)(2) and/or (3).

6. LAREDO DONJUAN, Ismael (a.k.a. LAREDO DON JUAN, Ismael; a.k.a. LAREDO, Ismael), Cuernavaca, Morelos, Mexico; DOB 28 Aug 1983; POB Acapulco de Juarez, Guerrero, Mexico; citizen Mexico; Gender Male; R.F.C. LADI830828T92 (Mexico); C.U.R.P. LADI830828HGRRNS08 (Mexico) (individual) [SDNTK] (Linked To: LAREDO DRUG TRAFFICKING ORGANIZATION). Designated for materially assisting in, or providing financial or technological support for or to, or providing services in support of, the international narcotics trafficking activities of Job LAREDO DON JUAN and/or the LAREDO DTO, and/or is directed by, or acting for or on behalf of, Job LAREDO DON JUAN and/or the LAREDO DTO, and therefore meets the statutory criteria for designation pursuant to section 805(b)(2) and/or (3) of the Kingpin Act, 21 U.S.C. 1904(b)(2) and/or (3).

7. MARCELO BARRAGAN, Antonio (a.k.a. “EL RATON”), Mexico; DOB 17 Jan 1983; citizen Mexico; Gender Male; R.F.C. MABA830117NJ0 (Mexico) (individual) [SDNTK] (Linked To: LAREDO DRUG TRAFFICKING ORGANIZATION). Designated for materially assisting in, or providing financial or technological support for or to, or providing services in support of, the international narcotics trafficking activities of the LAREDO DTO and/or Job LAREDO DON JUAN, and/or is directed by, or acting for or on behalf of, the LAREDO DTO and/or Job LAREDO DON JUAN, and therefore meets the statutory criteria for designation pursuant to section 805(b)(2) and/or (3) of the Kingpin Act, 21 U.S.C. 1904(b)(2) and/or (3).

8. REYNA FELIX, Ismael, Mexico; DOB 18 Dec 1978; POB Baja California, Mexico; citizen Mexico; Gender Male; R.F.C. REFI781218BI4 (Mexico) (individual) [SDNTK] (Linked To: LAREDO DRUG TRAFFICKING ORGANIZATION). Designated for materially assisting in, or providing financial or technological support for or to, or providing services in support of, the international narcotics trafficking activities of the LAREDO DTO and/or Job LAREDO DON JUAN, and/or is directed by, or acting for or on behalf of, the LAREDO DTO and/or Job LAREDO DON JUAN, and therefore meets the statutory criteria for designation pursuant to section 805(b)(2) and/or (3) of the Kingpin Act, 21 U.S.C. 1904(b)(2) and/or (3).

Entity

1. LAREDO DRUG TRAFFICKING ORGANIZATION (a.k.a. LAREDO DTO), Mexico [SDNTK]. Designated for playing a significant role in international narcotics trafficking and therefore meets the statutory criteria for designation pursuant to section 805(b)(4) of the Kingpin Act, 21 U.S.C. 1904(b)(4).

Dated: April 14, 2016.
John E. Smith,
Acting Director, Office of Foreign Assets Control.

[FR Doc. 2016-08973 Filed 4-18-16; 8:45 am]

BILLING CODE 4810-AL-P